DEPARTMENT OF THE TREASURY

Office of Thrift Supervision

Joint-Federal Retirement Thrift Investment Board/Employee Thrift Advisory Counsil Meeting; Sunshine Act; Notice of Meeting

Time and Date: 9 a.m. (Eastern Time), June 30, 2008.

Place: 2nd Floor Training Room, 1250 H Street, NW., Washington, DC 20005.

Status: Parts will be open to the public and parts closed to the public.

Matters to be Considered:

Parts Open to the Public

1. Approval of the minutes of the May 19, 2008 Board member meeting.

2. Approval of the minutes of the December 19, 2007 ETAC meeting.

3. Thrift Savings Plan activity report by the Executive Director.

a. Participant Activity Report.

b. Investment Performance Report.

4. New Business.

a. TSP System Modernization.

b. Congressional discussion draft on (1) automatic enrollment, (2) L Fund default option, (3) Roth account option, (4) Board authority to add funds or create a self-directed mutual fund window.

c. Allowing a spousal beneficiary to inherit and maintain a TSP account.

Parts Closed to the Public

5. Procurement/Confidential Vendor Financial Data.

6. Security.

FOR MORE INFORMATION CONTACT: Thomas J. Trabucco, Director, Office of External Affairs, (202) 942-1640.

Dated: June 19, 2008.
Thomas K. Emswiler,
Secretary, Federal Retirement Thrift Investment Board.

[FR Doc. 08-1383 Filed 6-20-08; 8:47 am]

BILLING CODE 6760-01-P